FEDERAL COMMUNICATIONS COMMISSION

47 CFR Part 73

[DA 05-1989; MB Docket No. 05-66, RM-11146]

Radio Broadcasting Service; Anson and Roby, TX

AGENCY: Federal Communications Commission.

ACTION: Final rule.

SUMMARY: The Audio Division, at the request of Jeraldine Anderson allots Channel 249A at Roby, Texas, as the community's first local aural transmission service. To accommodate the allotment, Channel 251C2 is substituted for Channel 251C1 at Anson, Texas to reflect the current licensed authorization of Station KTLT(FM) whose construction permit for Channel 251C1 expired. See 70 FR 12833, published March 16, 2005. Channel 249A can be allotted to Roby in compliance with the Commission's minimum distance separation requirements at reference coordinates 32-43-00 North Latitude and 100-27-00 West Longitude with a site restriction of 7.5 kilometers (4.7 miles) southwest of the community. A filing window for Channel 249A at Roby, Texas will not be opened at this time. Instead, the issue of opening a filing window for this channel will be addressed by the Commission in a subsequent order.

DATES: Effective August 29, 2005.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No.05-66, adopted July 13, 2005, and released July 15, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Texas, is amended by removing Channel 251C1 and by adding Channel 251C2 at Anson.

3. Section 73.202(b), the Table of FM Allotments under Texas, is further amended by adding Roby, Channel 249A.

Federal Communications Commission.
John A. Karousos,
Assistant Chief, Audio Division, Media Bureau.

[FR Doc. 05-14959 Filed 8-2-05; 8:45 am]

BILLING CODE 6712-01-P